INTERNATIONAL TRADE COMMISSION

[Investigation No. 337-TA-950]

Certain Electronic Products, Including Products With Near Field Communication (“NFC”) System-Level Functionality and/or Battery Power-Up Functionality, Components Thereof, and Products Containing Same

AGENCY: U.S. International Trade Commission.

ACTION: Notice of Commission Determination not to review an initial determination granting a joint motion to terminate the investigation based on a patent license agreement; termination of the investigation.

SUMMARY: Notice is hereby given that the U.S. International Trade Commission has determined not to review the presiding administrative law judge's (“ALJ”) initial determination (“ID”) (Order No. 14) that granted a joint motion to terminate the above-captioned investigation based on a patent license agreement. The investigation is terminated.

FOR FURTHER INFORMATION CONTACT: Cathy Chen, Office of the General Counsel, U.S. International Trade Commission, 500 E Street SW., Washington, DC 20436, telephone (202) 205-2392. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on March 19, 2015, based on a complaint filed by NXP B.V. of The Netherlands and NXP Semiconductors USA, Inc. of San Jose, California (collectively, “NXP”). 80 FR 14406-07 (Mar. 19, 2015). The complaint was supplemented on February 27, 2015. The complaint, as supplemented, alleged violations of section 337 of the Tariff Act of 1930, as amended, 19 U.S.C. 1337, by reason of the importation into the United States, the sale for importation, and the sale within the United States after importation of certain electronic products, including products with near field communication (“NFC”) system-level functionality and/or battery power-up functionality, components thereof, and products containing same by reason of infringement of certain claims of six United States patents. The notice of investigation named Dell, Inc. of Round Rock, Texas (“Dell”), as the sole respondent. Id. at 14407.

On October 16, 2015, NXP and Dell filed a joint motion to terminate the investigation on the basis of a patent license agreement between the parties. Order No. 14 at 1. On October 26, 2015, the Commission investigative staff filed a response supporting the motion. Id.

On October 26, 2015, the ALJ issued the subject ID (Order No. 14) granting the joint motion to terminate the investigation. The ALJ found that the joint motion complies with the Commission's rules for termination and that the agreement does not adversely affect the public interest.

No petitions for review were filed. The Commission has determined not to review the subject ID.

The authority for the Commission's determination is contained in section 337 of the Tariff Act of 1930, as amended (19 U.S.C. 1337), and in Part 210 of the Commission's Rules of Practice and Procedure (19 CFR part 210).

By order of the Commission.
Issued: November 23, 2015.
William R. Bishop,
Supervisory Hearings and Information Officer.

[FR Doc. 2015-30276 Filed 11-27-15; 8:45 am]

BILLING CODE 7020-02-P